DEPARTMENT OF THE INTERIOR

National Park Service

National Register of Historic Places; Notification of Pending Nominations and Related Actions

Nominations for the following properties being considered for listing or related actions in the National Register were received by the National Park Service before May 8, 2010. Pursuant to section 60.13 of 36 CFR Part 60, written comments are being accepted concerning the significance of the nominated properties under the National Register criteria for evaluation. Comments are also being accepted on the following properties being considered for removal pursuant to 36 CFR 60.15. Comments may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by June 14, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Pima County

Rillito Race Track at the J. Rukin Jelks Stud Farm Historic Site, 4502 N First Ave and 1090 E River Rd, Tucson, 10000351

ARKANSAS

Baxter County

Mountain Home Commercial Historic District, Roughly bounded on the N by E 5th St, E 9th St on the S, S St on the E, and Hickory St on the W, Mountain Home, 10000348

CALIFORNIA

Santa Clara County

Palo Alto Medical Clinic, 300 Homer Ave, Palo Alto, 10000357

CONNECTICUT

Litchfield County

Hollister, Homestead, The, 294-300 Nettleton Hollow Rd, Washington, 10000350

DISTRICT OF COLUMBIA

District of Columbia

Earley, John J., Office and Studio, 2131 G St, NW, Washington, 10000367

Everglades, The, (Apartment Buildings in Washington, DC, MPS) 2223 H St, NW, Washington, 10000368

Flagler, The, (Apartment Buildings in Washington, DC, MPS) 736 22nd St, NW, Washington, 10000369

Keystone, The, (Apartment Buildings in Washington, DC, MPS) 2150 Pennsylvania Ave, NW, Washington, 10000370

Milton Hall, (Apartment Buildings in Washington, DC, MPS) 2222 I St, NW, Washington, 10000371

Munson Hall, (Apartment Buildings in Washington, DC, MPS) 2212 H St, NW, Washington, 10000372

ILLINOIS

Woodford County

Eureka College Campus Historic District, 300 College Ave, Eureka, 10000365

MISSOURI

St. Louis Independent City

North Broadway Wholesale and Warehouse District, 1400-1600 and 1609-1629 N Broadway, St. Louis, 10000352

NEW JERSEY

Hunterdon County

Rosemont Rural Agricultural District, County Routes 519 and 604; Sanford Rd; Covered Bridge Rd, Delaware, 10000354

Monmouth County

Allenhurt Residential Historic District, Roughly bounded by the Atlantic Ocean, Main St, Cedar Ave, Hume St, and Elberon Ave, Allenhurst, 10000353

NEW YORK

Chenango County

Chenango Canal Prism and Lock 107, (Historic and Engineering Resources of the Chenango Canal MPS) River Rd, Chenango Forks, 10000359

Greene County

Rushmore Farm, 8748 US 9W, Athens, 10000364

Monroe County

Alcoa Care-free Home, 1589 Clover St, Rochester, 10000358

Fernwood Park Historic District, (Rochester Plan Veterans Housing TR) Bounded by Fernwood Ave, Woodman Park, Culver Rd, and Waring Rd, Rochester, 10000360

Norton Village Historic District, (Rochester Plan Veterans Housing TR) Norton St., Norton Village Ln, Village Way, and Veteran St, Rochester, 10000362

Ramona Park Historic District, (Rochester Plan Veterans Housing TR) Ramona Park, Rochester, 10000363

Onondaga County

Niagra Hudson Building, The, 300 Erie Blvd W, Syracuse, 10000361

NORTH DAKOTA

Nelson County

Old Settler's Pavilion, 63 Pavilion Rd, Pekin, 10000366

VERMONT

Rutland County

St. Stanislaus Kostka School and Convent House, (Educational Resources of Vermont MPS) 95 & 113 Barnes St, West Rutland, 10000349

In the interest of preservation the comment period for the following action has been waived or shortened to (3) three days.

CALIFORNIA

Marin County

Dipsea Trail, The, Throckmorton Ave, Sequoia Valley Rd., Panoramic Hwy., State Rt 1, Mill Valley and Stinson Beach, 10000356

[FR Doc. 2010-12837 Filed 5-27-10; 8:45 am]

BILLING CODE P